DEPARTMENT OF AGRICULTURE

Agricultural Marketing Service

[Doc. No. AMS-TM-08-0077; TM-08-11]

Request for an Extension to a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget, for an extension of the currently approved information collection for the Farmers Market Questionnaire.

DATES: Comments received by October 27, 2008 will be considered.

Additional Information or Comments: Contact Ed Ragland, Marketing Services Division, Transportation and Marketing Programs, Agricultural Marketing Service, U.S. Department of Agriculture, 1400 Independence Ave., SW., Room 2646 South Building, Ag Stop 0269, Washington, DC 20250-0269; 202-720-8317. Comments should reference Docket No. AMS-TM-08-0077; TM-08-11.

SUPPLEMENTARY INFORMATION:

Title: Farmers Market Questionnaire.

OMB Number: 0581-0169.

Expiration Date of Approval: April 30, 2009.

Type of Request: Extension to the currently approved information collection.

Abstract: Under the Agricultural Marketing Act of 1946, as amended (7 U.S.C. 1621 et seq.), AMS is responsible for conducting research to enhance market access for small- and medium-sized farmers. The role of the Marketing Services Division (MSD) of AMS is to facilitate distribution of U.S. agricultural products. The division identifies marketing opportunities, provides analysis to help take advantage of those opportunities and develops and evaluates solutions including improving farmers markets and other direct-to-consumer marketing activities. Various types of farmers markets serve different parts of the food marketing chain but all focus on the small- to medium-sized agricultural producers that have difficulty obtaining access to large scale commercial distribution channels. Information has been collected by the MSD periodically about the size and growth of markets, farmers served, products sold, sales, and management structure to better monitor how this marketing channel changes over time and the impact farmers markets have on the farming community nationwide. Estimate of Burden: Public reporting burden for this collection of information is estimated to average .316 hours per response.

Respondents: Farmers market managers.

Estimated Number of Respondents: 4700.

Estimated Number of Responses: 1622.

Estimated Number of Responses per Respondent: .345.

Estimated Total Annual Burden on Respondents: 512 hours.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to the following addresses:

• Mail: Ed Ragland, Marketing Services Division, Transportation and Marketing Programs, Agricultural Marketing Services, U.S. Department of Agriculture, 1400 Independence Ave., SW., Room 2646 South Building, Ag Stop 0269, Washington, DC 20250-0269.

• Internet: http://www.regulations.gov.

All written comments should be identified with the docket number AMS-TM-08-0077; TM-08-11. It is our intention to have all comments whether submitted by mail or Internet available for viewing on the Regulations.gov (http://www.regulations.gov) Internet site. Comments submitted will also be available for public inspection in person at USDA-AMS, Transportation and Marketing Programs, Marketing Services Division, Room 2646-South Building, 1400 Independence Ave., SW., Washington, DC, from 9 a.m. to 12 noon and from 1 p.m. to 4 p.m., Monday through Friday, (except official Federal holidays). Persons wanting to visit the USDA South Building to view comments received are requested to make an appointment in advance by calling (202) 720-8317.

The information collected is used only by authorized employees of the USDA, AMS.

All responses to this notice will be summarized and included in the request for OMB approval. All comments will become a matter of public record.

Dated: August 20, 2008.
Lloyd C. Day,
Administrator,Agricultural Marketing Service.

[FR Doc. E8-19699 Filed 8-25-08; 8:45 am]

BILLING CODE 3410-02-P